DEPARTMENT OF THE INTERIOR

Fish and Wildlife Service

Notice of Receipt of Applications

AGENCY: Fish and Wildlife Service, Interior.

ACTION: Notice of receipt.

SUMMARY: We announce our receipt of applications to conduct certain activities pertaining to scientific research and enhancement of survival of endangered species.

DATES: Written comments on these requests for permits must be received June 27, 2002.

ADDRESSES: Written data or comments should be submitted to the Assistant Regional Director—Ecological Services, U.S. Fish and Wildlife Service, P.O. Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

SUPPLEMENTARY INFORMATION: The following applicants have requested renewal of scientific research and enhancement of survival permits to conduct certain activities with endangered species pursuant to section 10(a)(1)(A) of the Endangered Species Act of 1973, as amended (16 U.S.C. 1531 et seq.)

Applicants: ZooMontana, Inc., Billings, Montana, TE-051845; San Diego Wild Animal Park, San Diego, California, TE-051835; Texas Zoo, Victoria, Texas, TE-051840; Bramble Park Zoo, Watertown, South Dakota, TE-051814.

The above applicants request permits to possess black-footed ferrets (Mustela nigripes) for public display and propagation in conjunction with recovery activities for the purpose of enhancing their survival and recovery.

Applicant: Detroit Zoological Institute, Detroit, Michigan, TE-056003.

The applicant requests a permit to possess Wyoming toads (Bufo hemiophrys baxteri) for public display and propagation in conjunction with recovery activities for the purpose of enhancing their survival and recovery.

Applicant: Craig Milewski, East Dakota Water Development District, Brookings, South Dakota, TE-056001.

The applicant requests a permit to take Topeka shiner (Notropis topeka) in conjunction with recovery activities throughout the species' range for the purpose of enhancing their survival and recovery.

Applicant: John A. Hawkins, Colorado State University, Fort Collins, Colorado, TE-056079.

The applicant requests a permit to take Colorado pikeminnow Ptychocheilus lucius in conjunction with recovery activities throughout the species' range for the purpose of enhancing their survival and recovery.

Dated: May 8, 2002.
David E. Heffernan,
Acting Regional Director, Denver, Colorado.

[FR Doc. 02-13200 Filed 5-24-02; 8:45 am]

BILLING CODE 4310-55-P